DEPARTMENT OF STATE

[Public Notice 4317]

Bureau of Educational and Cultural Affairs; Request for Grant Proposals: English Language Fellow Program for Academic Year 2004-2005

SUMMARY: The Office of English Language Programs of the Bureau of Educational and Cultural Affairs announces an open competition for the 2004-2005 English Language Fellow Program. Public and private non-profit organizations meeting the provisions described in Internal Revenue Code section 26 U.S.C. 501(c)(3) may submit proposals to administer and manage the 2004-2005 English Language Fellow Program. The English Language Fellow Program is a worldwide program designed to provide American professional expertise in the field of English as a Foreign Language to foreign educational institutions and other relevant organizations.

Program Information

Overview

The English Language Fellow Program is a ten-month program designed to permit U.S. English language professional assistance in the improvement of English teaching capability around the world. The Program has placed over 350 English language professionals worldwide in the past five years, enhancing foreign governments' efforts to respond to the dramatic increase in the demand for English among their populations. The goals of the program are to enhance English teaching capacity overseas in order to provide foreign teachers and students with communication skills they will need to participate in the global economy, to improve their access to diverse perspectives on a broad variety of issues, and to give them information that will better enable them to understand and convey concepts about American values, democratic representative government, free enterprise, and the rule of law.

The program is open to U.S. English language professionals at two different levels:

A. Senior English Language Fellows are experienced teacher trainers who have a M.A. or higher degree in TEFL/TESL or a closely related field and who have significant overseas teaching experience. These Fellows serve as full-time teacher trainers and participate in the following program-related activities: Teaching English for Specific Purposes (ESP) in a variety of professional fields, designing English as a Foreign Language (EFL) curricula and materials, conducting program evaluations, testing, organizing workshops and conferences, etc.

B. Junior English Language Fellows are recent (within the past five years) TEFL/TESL M.A. graduates who may or may not have prior overseas teaching experience. These Fellows serve as full-time EFL teachers. Normal teaching duties are 20 hours per week, with additional work in teacher training, curriculum development, and testing. Taken together, these duties should not exceed 40 hours per week and should not include administrative work.

Objectives

1. With the guidance of U.S. Embassies overseas, to place 70 English Language Fellows (approximately 70% senior, 30% junior) in ten-month assignments at universities, teacher-training institutions, ministries of education, bi-national centers and other related language education institutions throughout the world.

2. To use the presence of the Fellows as a means to encourage mutual understanding and to share U.S. culture and values with host country nationals.

Guidelines

The organization selected under this competition will be responsible for the following:

(1) Extensive/comprehensive promotion, publicity, advertisement for the program among potential U.S. applicants.

(2) Selection and placement of up to 70 English Language

Fellows (approximately 70% senior, 30% junior), including recruitment, interviews by experienced TEFL/TESL-qualified staff, and matching of Fellows to specific projects.

(3) Pre-departure conference in the U.S.

(4) Fiscal management.

(5) Travel and logistics management.

(6) Enrollment of Fellows in the Bureau's Health and Accident

Insurance Program (ASPE), including submission of Fellows' medical/health records to Bureau for clearance.

(7) Monitoring of program and participants, including a regional site visit.

(8) Design and implementation of an evaluation strategy designed to measure impact and outcome of the program and the individual participants.

(9) Organization and implementation of an overseas, regional Fellow mid-year conference.

(10) Implementation of information-maintenance and sharing activities (Web site, listserv, database).

Pending the availability of funds, the grant period shall begin on/about October 1, 2004 through September 30, 2005. The English Language Fellow Program is for academic year 2004/2005. Fellow assignments are for ten months beginning on/about September 1, 2004 through June 30, 2005.

Budget Guidelines

The Bureau anticipates awarding one grant of approximately $4,000,000 under this grant competition. (Bureau grant guidelines require that organizations with fewer than four years experience in conducting international exchanges is limited to $60,000 in Bureau funding. Therefore, organizations that cannot demonstrate at least four years' experience in conducting international exchanges are ineligible to apply under this competition.) This amount will support the program and administrative costs required to implement the program. Benefits for the Fellows include the following: a fixed stipend, living allowance supplement, round trip travel, pre-departure conference travel, pre-departure conference allowance, fixed allowance for one dependent (seniors only), mid-year conference travel, miscellaneous allowance, shipping allowance, educational materials allowance, in-country arrival orientation allowance, and in-country program activities allowance (seniors only). The Bureau encourages applicants to provide the highest level of cost sharing possible in support of this program.

A comprehensive program budget is required, with a summary budget as well as breakdowns reflecting both administrative and program budgets. Applicants may provide separate sub-budgets for each program component, phase, location, or activity to provide clarification. Please refer to the Solicitation Package for complete budget guidelines and formatting instructions.

Announcement Title and Number: All correspondence with the Bureau concerning this RFGP should reference the above title and number ECA/A/L-04-01.

FOR FURTHER INFORMATION CONTACT: The Office of English Language Programs, ECA/A/L, Room 304, U.S. Department of State, 301 4th Street, SW., Washington, DC 20547, Phone: 619-5878; FAX: (202) 401-1250, Internet address: http://exchanges.state.gov/education/RFGPs to request a Solicitation Package. The Solicitation Package contains detailed award criteria, required application forms, specific budget instructions, and standard guidelines for proposal preparation. Please specify Bureau Program Officer, Catherine Williamson, on all other inquiries and correspondence.

Please read the complete Federal Register announcement before sending inquiries or submitting proposals. Once the RFGP deadline has passed, Bureau staff may not discuss this competition with applicants until the proposal review process has been completed.

To Download a Solicitation package Via Internet: The entire Solicitation Package may be downloaded from the Bureau Web site, http://exchanges.state.gov/education/RFGPs. Please read all information before downloading.

Deadline for Proposals

All proposal copies must be received at the Bureau of Educational and Cultural Affairs by 5 p.m. Washington, DC time on May 16, 2003. Faxed documents will not be accepted at any time. Documents postmarked the due date but received on a later date will not be accepted. It is the responsibility of each applicant to ensure that the proposals are received by the above deadline. Applicants must follow all instructions in the Solicitation Package.

The original and 10 copies of the application should be sent to: U.S. Department of State, SA-44, Bureau of Educational and Cultural Affairs, Ref.: ECA/A/L-04-01, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. The program office, as well as the Public Diplomacy section overseas, where appropriate will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grant resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan. Because publicity and recruitment are essential components of the Program, an aggressive publicity/recruitment plan is required.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activities' success, both as the activities unfold and at the end of the program. A draft survey questionnaire or other technique plus description of a methodology to use to link outcomes to original project objectives are recommended. Successful applicants will be expected to submit intermediate reports after each project component is concluded or on a quarterly basis, whichever is less frequent.

10. Cost-effectiveness: The overhead and administrative components of the proposal, including salaries and honoraria, should be kept as low as possible. All other items should be necessary and appropriate.

11. Cost-sharing: Proposals should maximize cost sharing through other private sector support as well as institutional direct funding contributions.

12. Value to U.S.-Partner Country Relations: Proposals should receive positive assessments by the U.S. Department of State's geographic area desk and overseas officers of program need, potential impact, and significance in the partner country (ies).

13. TEFL/TESL Background: Proposals should demonstrate a networking plan that allows for significant dissemination of information to English as a Second or Foreign Language Teaching professionals. The grantee must be able to provide knowledgeable, TEFL/TESL-qualified, experienced staff capable of interviewing candidates and evaluating their qualifications in accordance with the criteria established by the Bureau.

Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” Subject to Congressional action, funding for this program will be provided from ECA's Exchanges Appropriation and interagency transfers to the Bureau authorized by the FREEDOM Support Act (FSA) and the Support for East European Democracy Act (SEED), among others.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 13, 2003.
Patricia S. Harrison,
Assistant Secretary for Educational and Cultural Affairs, Department of State.

[FR Doc. 03-6729 Filed 3-19-03; 8:45 am]

BILLING CODE 4710-11-P